DEPARTMENT OF THE INTERIOR

Bureau of Indian Affairs

[245A2100DD/AAKC001030/A0A501010.999900]

Indian Gaming; Approval by Operation of Law of Amendment to Class III Tribal-State Gaming Compacts (Sherwood Valley Band of Pomo Indians, Resighini Rancheria, Manchester Band of Pomo Indians, Cahto Tribe of the Laytonville Rancheria, and the State of California)

AGENCY: Bureau of Indian Affairs, Interior.

ACTION: Notice.

SUMMARY: This notice publishes the approval by operation of law of amendments to the Tribal-State Gaming Compacts between the Sherwood Valley Rancheria of Pomo Indians, Resighini Rancheria, Manchester Band of Pomo Indians of the Manchester Rancheria, Cahto Tribe of the Laytonville Rancheria, respectively, and the State of California.

DATES: The Compacts takes effect on January 23, 2024.

FOR FURTHER INFORMATION CONTACT: Ms. Paula L. Hart, Director, Office of Indian Gaming, Office of the Assistant Secretary—Indian Affairs, Washington, DC 20240, (202) 219-4066.

SUPPLEMENTARY INFORMATION: The Indian Gaming Regulatory Act of 1988, 25 U.S.C. 2701 et seq., (IGRA) provides the Secretary of the Interior (Secretary) with 45 days to review and approve or disapprove the Tribal-State compact governing the conduct of Class III gaming activity on the Tribe's Indian lands. See 25 U.S.C. 2710(d)(8). If the Secretary does not approve or disapprove a Tribal-State compact within the 45 days, IGRA provides the Tribal-State compact is considered to have been approved by the Secretary but only to the extent the compact is consistent with IGRA. See 25 U.S.C. 2710(d)(8)(C). The IGRA also requires the Secretary of the Interior to publish in the Federal Register notice of the approved Tribal-State compacts for the purpose of engaging in Class III gaming activities on Indian lands. See 25 U.S.C. 2710(d)(8)(D). The Department's regulations at 25 CFR 293.4 require all compacts and amendments to be reviewed and approved by the Secretary prior to taking effect. The Secretary took no action on the Compact amendments between the Sherwood Valley Band of Pomo Indians, Resighini Rancheria, Manchester Band of Pomo Indians, Cahto Tribe of the Laytonville Rancheria, respectively, and the State of California, within the 45-day statutory review period. Therefore, the Compact amendments are considered to have been approved, but only to the extent they are consistent with IGRA. See 25 U.S.C. 2710(d)(8)(C).

Bryan Newland,
Assistant Secretary—Indian Affairs.

[FR Doc. 2024-01231 Filed 1-22-24; 8:45 am]

BILLING CODE 4337-15-P